FEDERAL ELECTION COMMISSION

Sunshine Act Meeting

TIME AND DATE: Thursday, April 8, 2021 at 11:30 a.m.

PLACE: Virtual meeting.

Note: because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-04: Pray.com

Proposed Modifications to Program for Requesting Consideration of Legal Questions by the Commission (LRA 1129)

Proposed Amendment to Directive 17

Draft Statement of Policy Regarding Closing the File at the Initial Stage in the Enforcement Process

Management and Administrative Matters

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2021-07093 Filed 4-1-21; 4:15 pm]

BILLING CODE 6715-01-P